ENVIRONMENTAL PROTECTION AGENCY

[OPPT-2003-0018; FRL-7303-4]

National Tribal Conference on Environmental Management; Notice of Proposal Solicitation

AGENCY: Environmental Protection Agency (EPA).

ACTION: Notice.

SUMMARY: EPA is requesting proposals from federally recognized Indian tribes or intertribal consortia to co-sponsor the 7th National Tribal Conference on Environmental Management (NTCEM). EPA will be the federal sponsor. The Tribal Conference will provide an opportunity for tribal leaders, tribal environmental managers, tribal organizations, federal agencies, and other interested entities/persons to share information about tribal environmental programs and discuss issues of vital interest to Indian country. The scope of the conference traditionally encompasses multi-media environmental issues involving tribes. The goals for the conference are to facilitate tribal environmental programs; establish stronger networks and relationships across environmental efforts in Indian country; identify shared lessons learned; and familiarize tribes with the full extent of tribal and EPA program environmental activities. EPA will award a cooperative agreement to the selected host tribe to co-sponsor the conference, including personnel, planning, facilities, and management expenses.

DATES: Proposals must be received or postmarked by June 23, 2003.

A conference call for potential applicants to ask questions or seek pre-application assistance is scheduled for May 7, 2003, from 2 p.m. to 4:30 p.m. eastern standard time. Please call Caren Rothstein-Robinson at (202) 564-0544 to obtain the conference call telephone number and the access code.

ADDRESSES: Mail proposals via the U.S. Postal Service (including express and priority mail) to: Clara Mickles, Environmental Protection Agency, American Indian Environmental Office, Mail code 4104M, 1200 Pennsylvania Ave., NW., Washington, DC 20460.

Mail proposals via commercial overnight delivery service (e.g., FedEx, DHL, UPS) to: Clara Mickles, Environmental Protection Agency, American Indian Environmental Office, Room 3334, EPA East, Mail code 4104M, 1201 Constitution Ave., NW., Washington, DC 20004.

FOR FURTHER INFORMATION CONTACT: Caren Rothstein-Robinson, Environmental Protection Agency, Office of Program Management Operations, Mail code 7101M, Office of Prevention, Pesticides and Toxic Substances, 1200 Pennsylvania Ave., NW., Washington, DC 20460; telephone number: (202) 564-0544.

Applicants may submit written questions for clarification electronically to: rothstein-robinson.caren@epa.gov.

SUPPLEMENTARY INFORMATION:

I. General Information

A. Does this Action Apply to Me?

This action is directed to the public in general. This action may, however, be of particular interest to federally recognized Indian tribes or tribal consortia. Since other entities may also be interested, the Agency has not attempted to describe all the specific entities that may be affected by this action. If you have any questions regarding the applicability of this action to a particular entity, consult the person listed under FOR FURTHER INFORMATION CONTACT.

B. How Can I Get Copies of This Document and Other Related Information?

1. Docket. EPA has established an official public docket for this action under docket identification (ID) number OPPT-2003-0018. The official public docket consists of documents specifically referenced in this action and other information related to this action. Although a part of the official docket, the public docket does not include Confidential Business Information (CBI) or other information whose disclosure is restricted by statute. The official public docket is the collection of materials that is available for public viewing at the EPA Docket Center, Rm. B-102 Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0280.

2. Electronic access. You may access this Federal Register document electronically through the EPA Internet under theFederal Register listings at http://www.epa.gov/fedrgstr/.You may also access this document and copies of past conference agendas from EPA's American Indian Environmental Office's web page at http://www.epa.gov/indian/.

Significant questions and responses as well as any significant clarifications to this request for proposals will be posted on EPA's American Indian Environmental Office's web page at http://www.epa.gov/indian/.

An electronic version of the public docket is available through EPA's electronic public docket and comment system, EPA Dockets. You may use EPA Dockets at http://www.epa.gov/edocket/ to access the index listing of the contents of the official public docket, and to access those documents in the public docket that are available electronically. Although not all docket materials may be available electronically, you may still access any of the publicly available docket materials through the docket facility identified in Unit I.B.1. Once in the system, select “search,” then key in the appropriate docket ID number.

II. Background

Starting in 1992, EPA has co-sponsored six bi-annual NTCEM conferences to provide an opportunity for tribal leaders, tribal environmental program managers, tribal organizations, federal agencies, and other interested entities to share information about tribal environmental programs and discuss issues of vital interest to Indian country. Topics at past conferences have helped to build tribal capacity in the following areas:

1. Managing environmental programs (including integrated waste programs).

2. Grant assistance to tribes.

3. Addressing concerns about human health risks and subsistence.

4. Contracting, research, and business development opportunities.

5. Technology (GIS) and natural resource management.

6. Air, water, and waste management issues.

The conference has traditionally been held in late spring. Following is a list of previous conference locations and dates:

1. Cherokee Nation, NC (May 1992)

2. Cherokee Nation, NC (May 1994)

3. Confederated Salish and Kootenai Tribes of the Flathead Nation, MT (May 1996)

4. Prairie Island Indian Community, MN (May 1998)

5. Confederated Tribes of Siletz Indians, OR (June 2000)

6. Pyramid Lake Paiute Tribe, NV (June 2002)

The most recent conference, hosted by the Pyramid Lake Paiute Tribe, in Reno, NV, was very successful in content as well as in attendance. Over 700 people attended this conference. Past conferences have drawn 500-700 participants representing more than 200 tribes, Native Alaskans, intertribal consortia, federal employees and private/non-profit organizations. The conference agenda included all aspects of tribal environmental issues.

EPA has decided to sponsor the 7th NTCEM in the spring of 2005, with EPA's Office of Prevention, Pesticides and Toxic Substances (OPPTS), serving as the lead office for the event. In the past, the NTCEM has been held bi-annually in late spring which would place the 7th NTCEM sometime in late spring of 2004.

The decision to hold the conference in the spring of 2005 is being made because EPA and its tribal partners are planning several significant activities in the 2004 calendar year. Moreover, EPA is aware that the National Museum of the American Indian is planned to have its grand opening in the fall of 2004. EPA understands that there are a number of tribal activities and celebrations being held in conjunction with the Museum's opening and does not want to detract from these events. EPA also believes that spacing major tribal events more widely presents several positive benefits. It will help spread scarce tribal travel expenses over a longer period and encourage tribal participation at more events. Scheduling the NTCEM for the spring of 2005 would also give the host tribe additional time to plan for and work with other tribes across the country to ensure fuller participation and a diverse agenda more accurately reflecting Tribal interest and issues.

III. 2005 Host Responsibilities

The tribal host will be the primary non-federal co-sponsor for this conference. Strong conference management capabilities are essential, and include: Developing the conference agenda, handling conference logistics (such as registration, transportation, and travel scholarships for tribal participants), developing conference materials, and communications planning and outreach to ensure that priority environmental issues of interest to tribes are represented. The host tribe will support the tribal community in their participation by encouraging attendance and covering related travel expenses for the appropriate tribal personnel. The host tribe will also take the lead role in developing a conference theme.

EPA will be the federal co-sponsor of the NTCEM and will work with the tribal co-sponsor to identify national tribal environmental issues and arrange for federal participation. The Agency will enter into a written co-sponsorship agreement under EPA Ethics Advisory 96-15 with the selected tribal co-sponsor. EPA will provide technical assistance to the tribal co-sponsor, as needed, to resolve logistics and communication issues associated with the event. In consultation with the tribal co-sponsor, EPA may advertise the conference in EPA websites, notices, newsletters and other internal EPA communications materials.

IV. Coordination with Other Federal Agencies and Tribal Organizations

EPA and the host tribe will coordinate with other federal agencies and key EPA-supported tribal entities (including the Tribal Operations Committee, Tribal Pesticide Program Council, Tribal Science Council, Tribal Association on Solid Waste and Emergency Response, and many other broader-based intertribal organizations and consortia) to strengthen the multi-media character of this conference. These groups will be invited to participate on the conference agenda or independently around the other on-going conference events. Once the conference host is selected, EPA encourages interested organizations to contact the host to coordinate efforts.

V. Evaluation Criteria

EPA is requesting proposals from federally recognized Indian tribes or intertribal consortia to host the National Tribal Conference on Environmental Management through a cooperative agreement with EPA, generally with a project period of 2 years. The applicable Catalog of Federal Domestic Assistance number is 66.604. To be eligible to receive a cooperative agreement under the authorities listed in today's Notice, an intertribal consortium must meet the definition of eligibility in the Environmental Program Grants for Tribes Final Rule, at 40 CFR 35.504 (66 FR 3782, January 16, 2001) (FRL-6929-5), and is a non-profit organization within the meaning of OMB Circular A-122. The funding amount for the cooperative agreement is subject to the availability of funds in EPA. Prior cooperative agreement awards for co-hosting the Tribal Conference have been in the amount of about $300,000. EPA will negotiate the final amount of the award with the selected tribal host.

Tribes or intertribal consortia that wish to submit proposals must first meet the four threshold factors described below under Unit V.B. Proposals that do not meet the threshold factors will not be considered further by EPA. If your tribe or intertribal consortium meets these threshold factors, EPA will score your proposal based on how well you meet the evaluation criteria. Please make sure you address the threshold factors first and then provide detailed information on all the listed criteria in your proposal. Clearly mark any information you consider confidential. EPA will make confidentiality decisions in accordance with Agency regulations at 40 CFR part 2, subpart B. Submissions which do not address a particular criterion will receive a zero score for that criterion. EPA strongly encourages direct involvement by staff from your environmental program/department, facility managers, and members of the local business community/chamber of commerce.

An EPA panel consisting of representatives from across the Agency will evaluate all qualifying submissions according to the listed criteria, and rank them according to final score. EPA will award a grant to the selected tribal host with the highest scoring proposal to cover personnel, planning, and management expenses. EPA reserves the right to reject all proposals and make alternative arrangements for the conference. EPA will follow the dispute resolution process in accordance with 40 CFR part 31, subpart F for disagreements.

Please submit a description of your facilities and a summary of your capabilities (with limited examples, if appropriate) for all of the criteria listed below.

A. Threshold Factors

1. Proposal must be submitted by an eligible federally recognized Indian tribe or intertribal consortium.

2. Have a conference center or other suitable meeting facilities capable of holding at least 4 concurrent sessions and a plenary session that will accommodate 700 people.

3. Have the capability to lodge 700 people.

4. Demonstrate the ability to effectively manage EPA financial assistance (i.e., an adequate financial management system with effective accounting procedures that maintain fiscal control).

B. Evaluation Criteria

1. Conference management. The proposal should clearly demonstrate the capability to manage all aspects of a major conference with detailed information and examples. The proposal should provide a preliminary conference plan of the host tribe's proposed approach. Conference management includes outreach, preparation, implementation, and wrap-up of the conference. Outreach should address issues such as effective involvement of tribes, communications plan, and internet capability. Preparation and implementation should address such issues as staffing; design and development of agenda; travel and facility logistics; registration; tribal travel scholarships; events; and contractual support. Wrap-up should address issues such as conference proceedings and evaluation by participants. Inclusion of (limited) documentation that specifically illustrates tribal conference management capability is strongly encouraged. (Maximum of 20 points)

2. Tribal environmental capabilities. Tribe or intertribal consortium demonstrates they have developed substantive environmental capabilities through, for example, establishing and implementing tribal environmental programs or coordinating/leading tribal environmental projects. Tribe or intertribal consortium demonstrates how such experience will be integrated into the conference, to include tribal environmental management and program perspectives, approaches and cultural aspects, such that the conference is distinguished from other environmental conferences. Proposal demonstrates how the tribe or intertribal consortium will closely tie the event to Indian country or tribal homelands. Proposal highlights how the host tribe will reflect tribal environmental issues in the conference theme and agenda. Proposal highlights local events, activities and/or projects that reflect tribal perspective. Examples from previous conferences include host tribe environmental program presentations and tours, technical and ceremonial demonstrations, tours of communities, and field trips to environmental sites. (Maximum of 20 points)

3. Conference facilities. Consideration will be given for conference facilities/amenities that are tribally owned or located on tribal land. Tribes that do not have facilities located on their lands can outline a plan to utilize nearby facilities that meet the logistical needs described in the criteria. (Maximum of 12 points).

4. Conference transportation. Demonstrate that: (i) Airline transportation is economically feasible for most conference participants; (ii) the conference facilities are located within 90 minutes of a major airport; and (iii) ground transportation can be provided for attendees to and from the airport and around the meeting sites (e.g., between meeting facility and offsite locations such as hotels and special event locations). Lodging should be available within a reasonable travel time, preferably within 15 minutes of conference facilities. (Maximum of 12 points)

5. Conference materials. Capability to produce and distribute conference materials, such as a conference logo, registration materials, signs/banners, an agenda booklet, and handouts. (Maximum of 12 points)

6. Vendor area. Use of an area in close proximity to the meeting area(s) capable of accommodating 25 or more vendors, providing exhibit booth space of 8' x 8' or 10' x 10' per vendor and access to electrical and telephone service. (Maximum of 12 points)

7. Resource conservation. Commitment to find flexible, yet more protective ways to conserve natural resources in the conduct of the conference. Proposal describes how the host tribe will communicate the environmentally friendly practices used at the conference to conference participants. Examples of resource conservation include: Using products with recycled content or other environmentally friendly materials, collecting recyclables, energy or water-use efficiency activities, providing opportunities for reuse, and providing sources of education. (Maximum of 12 points)

Total: 100 points.

In addition to soliciting proposals for the 2005 conference, EPA encourages you to submit suggestions or ideas for potential agenda topics that your tribe would like to see addressed at the conference. EPA will forward all suggestions to the selected tribal host. EPA also encourages you to attend the conference regardless of whether you are interested in hosting the event.

List of Subjects

Environmental protection, Indian tribes.

Dated: April 16, 2003.
Stephen L. Johnson,
Assistant Administrator, Office of Prevention, Pesticides and Toxic Substances.

[FR Doc. 03-10168 Filed 4-23-03; 8:45 am]

BILLING CODE 6560-50-S